DEPARTMENT OF THE INTERIOR

Bureau of Ocean Energy Management

[Docket No. BOEM-2024-0036]

Notice of Availability of a Joint Record of Decision for the Proposed Atlantic Shores Offshore Wind South Project

AGENCY: Bureau of Ocean Energy Management, Interior; National Marine Fisheries Service, National Oceanic and Atmospheric Administration, Commerce; U.S. Army Corp of Engineers, Department of the Army.

ACTION: Record of decision; notice of availability.

SUMMARY: The Bureau of Ocean Energy Management (BOEM) announces the availability of the joint record of decision (ROD) on the final Environmental Impact Statement (EIS) for the construction and operations plan (COP) submitted by Atlantic Shores Offshore Wind Project 1, LLC and Atlantic Shores Offshore Wind Project 2, LLC (Atlantic Shores) for its proposed Atlantic Shores Offshore Wind South Project (Project) offshore New Jersey. The joint ROD includes the Department of the Interior's (DOI) decision regarding the COP; National Marine Fisheries Service's (NMFS) decision, pending completion of all statutory processes, regarding Atlantic Shores' requested Incidental Take Regulations (ITR) and an associated Letter of Authorization (LOA) under the Marine Mammal Protection Act (MMPA); and the Department of the Army's (DA) decision regarding authorizations under sections 10 and 14 of the Rivers and Harbors Act of 1889 (RHA), section 404 of the Clean Water Act (CWA), and section 103 of the Marine Protection, Research, and Sanctuaries Act (MPRSA). NMFS has adopted the final EIS to support its decision about whether or not to promulgate the requested ITR and issue a LOA to Atlantic Shores under the MMPA. U.S. Army Corps of Engineers (USACE) has adopted the final EIS to support its decision to issue a DA permit under sections 10 and 14 of the RHA, section 404 of the CWA, and section 103 of the MPRSA. The joint ROD concludes the National Environmental Policy Act process for each agency.

ADDRESSES: The joint ROD and associated information are available on BOEM's website at https://www.boem.gov/renewable-energy/state-activities/atlantic-shores-south.

FOR FURTHER INFORMATION CONTACT: For information related to BOEM's action, please contact Kimberly Sullivan, BOEM Office of Renewable Energy Programs, 45600 Woodland Road, VAM-OREP, Sterling, Virginia 20166, (702) 338-4766, or kimberly.sullvian@boem.gov. For information related to NMFS' action, contact Katherine Renshaw, NOAA Office of General Counsel, (302) 515-0324, katherine.renshaw@noaa.gov. For information related to USACE's action, please contact Stephen Rochette, (215) 656-6515, PDPA-NAP@usace.army.mil.

SUPPLEMENTARY INFORMATION: Atlantic Shores seeks approval to construct, operate, and maintain the Project: two wind energy facilities (Project 1 and Project 2) and the associated export cables on the Outer Continental Shelf (OCS) offshore New Jersey. The Project would be developed within the range of design parameters outlined in the COP, subject to applicable mitigation measures.

A notice of availability for the final EIS was published in the Federal Register on May 31, 2024. On June 25, 2024, BOEM published an errata on its website that included certain edits to Chapter 2, Chapter 3, and Appendix G: Mitigation and Monitoring Table G-2. None of these edits are substantive or affect the analysis or conclusions in the final EIS.

The Project as proposed in the COP would include up to 200 total wind turbine generators (WTGs) (between 105 and 136 WTGs for Project 1, and between 64 and 95 WTGs for Project 2), up to 10 offshore substations (OSSs) (up to 5 in each Project), up to 1 permanent meteorological (met) tower, up to 4 temporary meteorological and oceanographic (metocean) buoys (up to 3 metocean buoys in Project 1 and 1 metocean buoy in Project 2), interarray and interlink cables, up to 2 onshore substations, 2 points of interconnection, 1 operations and maintenance facility, and up to 8 transmission cables making landfall at 2 New Jersey locations.

The Atlantic Shores South Project is proposed to be located 8.7 statute miles (14 kilometers) ¹ from the New Jersey shoreline at its closest point, within the area covered by Renewable Energy Lease Number OCS-A 0499 (Lease Area).

¹ Equates to 7.6 nautical miles. 1 nautical mile = 1.1508 statute miles.

After carefully considering public comments on the draft EIS and the alternatives described and analyzed in the final EIS, DOI selected Alternative B, “Proposed Action,” in combination with Alternative C4, “Habitat Impact Minimization/Fisheries Habitat Impact Minimization: Micrositing,” Alternative D3, “No Surface Occupancy of Up to 10.8 Miles [17.4 Kilometers] from Shore: Removal of up to 6 Turbines,” and Alternative E, “Wind Turbine Layout Modification to Establish a Setback between Atlantic Shores South and Ocean Wind 1,” as well as the two proposed mitigation measures that require WTG removal:

• No permanent structures will be placed in a way that narrows any linear rows and columns to fewer than 0.6 nautical miles (1,100 meters) or in a layout that eliminates two distinct lines of orientation in a grid pattern. The Project's proposed OSSs, met tower, and WTGs will be aligned in a uniform grid with rows in an east-northeast to west-southwest direction spaced 1.0 nautical mile (1,900 meters) apart and rows in an approximately north to south direction spaced 0.6 nautical mile (1,100 meters) apart, with the exception of WTGs AX01, AZ08, BA09, BC07, BE10, BE12, BE14, BE15, BE16, BF14, BF15, and BG13; and

• Atlantic Shores must remove from its Project layout a single turbine position approximately 150 to 200 feet (45.8 to 61 meters) from the observed Fish Haven (Atlantic City Artificial Reef Site).

This combination is the Preferred Alternative identified in the final EIS. The anticipated mitigation, monitoring, and reporting requirements, which will be included in BOEM's COP approval as terms and conditions, are included in the ROD, which is available at: https://www.boem.gov/renewable-energy/state-activities/atlantic-shores-south.

NMFS has adopted BOEM's final EIS to support its decision about whether or not to promulgate the requested ITR and issue the associated LOA to Atlantic Shores. NMFS' final decision about whether or not to promulgate the requested ITR and issue the LOA will be documented in a separate Decision Memorandum prepared in accordance with internal NMFS policy and procedures. The final ITR and a notice of issuance of the LOA, if issued, will be published in the Federal Register. The LOA would authorize Atlantic Shores to take small numbers of marine mammals incidental to Project construction and would set forth permissible methods of incidental taking; means of affecting the least practicable adverse impact on the species and their habitat; and requirements for monitoring and reporting. Pursuant to Section 7 of the Endangered Species Act (ESA), NMFS issued a final Biological Opinion to BOEM on December 18, 2023, evaluating the effects of the proposed action on ESA-listed species. The proposed action in the Biological Opinion includes the associated permits, approvals, and authorizations that may be issued.

USACE has decided to adopt BOEM's final EIS and issue permits to Atlantic Shores under sections 10 and 14 of the RHA, section 404 of the CWA, and section 103 of the MPRSA.

Authority: National Environmental Policy Act of 1969, as amended, (42 U.S.C. 4321 et seq.); 40 CFR 1505.2.

Walter Cruickshank,
Deputy Director, Bureau of Ocean Energy Management.

[FR Doc. 2024-14908 Filed 7-5-24; 8:45 am]

BILLING CODE 4340-98-P